DEPARTMENT OF ENERGY

Federal Energy Regulatory Commission

Sunshine Act meeting

September 20, 2000.

The following notice of meeting is published pursuant to Section 3(A) of the Government in the Sunshine Act (Pub. L. No. 94-409), 5 U.S.C 552B:

AGENCY HOLDING MEETING: Federal Energy Regulatory Commission.

DATE AND TIME: September 27, 2000, 10 a.m.

PLACE: Room 2C, 888 First Street, NE., Washington, DC 20426.

STATUS: Open.

MATTERS TO BE CONSIDERED: Agenda.

Note: Items Listed on the agenda may be deleted without further notice.

CONTACT PERSON FOR MORE INFORMATION SECRETARY: David P. Boergers, Secretary, Telephone (202) 208-0400. For a recording listing items stricken from or added to the meeting, call (202) 208-1627.

This is a list of matters to be considered by the Commission. It does not include a listing of all papers relevant to the items on the agenda; however, all public documents may be examined in the reference and information center.

748th—Meeting September 27, 2000, Regular Meeting (10 a.m.)

Consent Agenda—Markets, Tariffs and Rates—Electric

CAE-1.

Omitted

CAE-2.

Omitted

CAE-3.

Omitted

CAE-4.

Docket # ER00-3152, 000, CMS Marketing, Services and Trading Company

Other #s ER00-3152, 001, CMS Marketing, Services and Trading Company

CAE-5.

Omitted

CAE-6.

Docket # EC96-19, 053, California Independent System Operator Corporation

Other #s ER96-1663, 056, California Independent System Operator Corporation

ER98-3760, 005, California Independent System Operator Corporation

CAE-7.

Omitted

CAE-8.

Omitted

CAE-9.

Docket # ER97-1523, 028, Central Hudson Gas & Electric Corporation, Consolidated Edison Company of New York, Inc., New York State Electric & Gas Corporation, Niagara Mohawk Power Corporation, Orange and Rockland Utilities, Inc. and Rochester Gas and Electric Corporation

Other #s OA97-470, 026, Central Hudson Gas & Electric Corporation, Consolidated Edison Company of New York, Inc., New York State Electric & Gas Corporation, Niagara Mohawk Power Corporation, Orange and Rockland Utilities, Inc. and Rochester Gas and Electric Corporation

ER97-4234, 024, Central Hudson Gas & Electric Corporation, Consolidated Edison Company of New York, Inc., New York State Electric & Gas Corporation, Niagara Mohawk Power Corporation, Orange and Rockland Utilities, Inc. and Rochester Gas and Electric Corporation

CAE-10.

Docket # ER97-913, 000, Connecticut Yankee Atomic Power Company

CAE-11.

Docket # ER00-26, 002, Central Maine Power Company

Other #s ER97-1326, 000, Central Maine Power Company

ER97-1326, 001, Central Maine Power Company

ER97-1326, 002, Central Maine Power Company

ER99-238, 000, Central Maine Power Company

ER99-238, 001, Central Maine Power Company

ER99-238, 002, Central Maine Power Company

ER99-4534, 000, Central Maine Power Company

ER99-4534, 001, Central Maine Power Company

ER99-4534, 002, Central Maine Power Company

ER00-26, 000, Central Maine Power Company

ER00-26, 001, Central Maine Power Company

EL00-44, 000, Central Maine Power Company

EL00-44, 001, Central Maine Power Company

EL00-44, 002, Central Maine Power Company

ER00-604, 000, Central Maine Power Company

ER00-604, 003, Central Maine Power Company

ER00-604, 004, Central Maine Power Company

ER00-982, 000, Central Maine Power Company

ER00-982, 002, Central Maine Power Company

ER00-982, 003, Central Maine Power Company

ER00-1638, 000, Central Maine Power Company

ER00-1638, 001, Central Maine Power Company

ER00-1638, 002, Central Maine Power Company

CAE-12.

Docket # ER00-3295, 000, International Transmission Company

CAE-13.

Docket # OA97-261, 002, Pennsylvania-New Jersey-Maryland Interconnection

Other #s EC96-28, 003, Atlantic City Electric Company, Baltimore Gas and Electric Company, Delmarva Power & Light Company, Jersey Central Power & Light Company, Metropolitan Edison Company, Pennsylvania Electric Company, Pennsylvania Power & Light Company, Potomac Electric Power Company and Public Service Electric and Gas Company

EC96-29, 003, PECO Energy Company

EL96-69, 003, Atlantic City Electric Company, Baltimore Gas and Electric Company, Delmarva Power & Light Company, Jersey Central Power & Light Company, Metropolitan Edison Company, Pennsylvania Electric Company, Pennsylvania Power & Light Company, Potomac Electric Power Company and Public Service Electric and Gas Company

ER96-2516, 003, Atlantic City Electric Company, Baltimore Gas and Electric Company, Delmarva Power & Light Company, Jersey Central Power & Light Company, Metropolitan Edison Company, Pennsylvania Electric Company, Pennsylvania Power & Light Company, Potomac Electric Power Company and Public Service Electric and Gas Company

ER96-2668, 003, PECO Energy Company

EC97-38, 001, Pennsylvania Electric Company, Pennsylvania Power & Light Company, Potomac Electric Power Company, Public Service Electric and Gas Company, Atlantic City Electric Company, Baltimore Gas and Electric Company, Delmarva Power & Light Company, Jersey Central Power & Light Company and Metropolitan Edison Company

EL97-44, 001, Pennsylvania-New Jersey-Maryland Interconnection Restructuring

OA97-678, 001, PJM Interconnection, L.L.C.

ER97-1082, 002, Pennsylvania-New Jersey-Maryland Interconnection

ER97-3189, 016, Atlantic City Electric Company, Baltimore Gas and Electric Company, Delmarva Power & Light Company, Jersey Central Power & Light Company and Metropolitan Edison Company

ER97-3273, 001, Pennsylvania Electric Company, Pennsylvania Power & Light Company, Potomac Electric Power Company, Public Service Electric and Gas Company and Pennsylvania-New Jersey-Maryland Interconnection Restructuring

CAE-14.

Docket # EC96-19, 024, California Independent System Operator Corporation

Other #s ER96-1663, 025, California Independent System Operator Corporation

CAE-15.

Omitted

CAE-16.

Docket # EL98-73, 001, Clarksdale Public Utilities Commission v. Entergy Services, Inc., as Agent for Entergy Arkansas, Inc., Entergy Louisiana, Inc., Entergy Mississippi, Inc., Entergy New Orleans, Inc. and Entergy Gulf States, Inc.

CAE-17.

Docket # ER99-237, 002, Allegheny Power Service Corporation on Behalf of Monongahela Power Company, Potomac Edison Company and West Penn Power Company

Other #s ER96-58, 003, Allegheny Power Service Corporation on Behalf of Monongahela Power Company, Potomac Edison Company and West Penn Power Company

CAE-18.

Omitted

CAE-19.

Docket # EL00-40, 001, Dighton Power Associates Limited Partnership, FPL Energy, L.L.C., Southern Energy New England, L.L.C. and Southern Energy Kendall, L.L.C. v. ISO New England, Inc.

CAE-20.

Omitted

CAE-21.

Docket # ER00-2360, 002, Pacific Gas and Electric Company

CAE-22.

Docket # EL00-83, 002, NSTAR Services Company v. New England Power Pool

Other #s EL00-62, 007, ISO New England, Inc.

ER00-2052, 006, ISO New England, Inc.

ER00-2811, 002, ISO New England, Inc.

ER00-2937, 001, ISO New England, Inc.

CAE-23.

Omitted

CAE-24.

Docket # EL99-65, 000, Sithe/Independence Power Partners, L.P. v. Niagara Mohawk Power Corporation

CAE-25.

Docket # EL00-96, 000, Old Dominion Electric Cooperative v. PJM Interconnection L.L.C. and Conectiv

CAE-26.

Docket # EL00-71, 000, City of Detroit, Michigan v. The Detroit Edison Company

CAE-27.

Omitted

CAE-28.

Docket # EC00-100, 000, Entergy Nuclear Indian Point 3, LLC and Entergy Nuclear Fitzpatrick, LLC

CAE-29.

Docket # EL00-90, 000, Morgan Stanley Capital Group, Inc. v. New York Independent System Operator, Inc.

CAE-30.

Docket # ID-2932, 001, James R. Lientz, Jr.

CAE-31.

Omitted

CAE-32.

Docket # EL00-76, 000, French Broad Electric Membership Corporation v. Carolina Power & Light Company

CAE-33.

Docket # OA99-3, 001, Alcoa Power Generating, Inc.

Consent Agenda—Markets, Tariffs and Rates—Gas

CAG-1.

Docket # RP99-301, 005, ANR Pipeline Company

CAG-2.

Docket # RP99-301, 006, ANR Pipeline Company

CAG-3.

Docket # RP00-514, 000, Southern Natural Gas Company

CAG-4.

Docket # RP00-512, 000, Algonquin LNG, Inc.

CAG-5.

Omitted

CAG-6.

Omitted

CAG-7.

Omitted

CAG-8.

Docket # RP00-500, 000, Chandeleur Pipe Line Company

CAG-9.

Omitted

CAG-10.

Docket # RP99-381, 000, Wyoming Interstate Company, Ltd.

Other #s RP99-381, 006, Wyoming Interstate Company, Ltd.

CAG-11.

Docket # RP00-530, 000, Dauphin Island Gathering Partners

CAG-12.

Docket # RP00-372, 000, ANR Pipeline Company

CAG-13.

Docket # RP97-406, 023, Dominion Transmission, Inc.

CAG-14.

Docket # RP00-289, 001, Tennessee Gas Pipeline Company

CAG-15.

Docket # RP95-363, 019, El Paso Natural Gas Company

CAG-16.

Docket # OR99-15, 000, Wolverine Pipe Line Company

CAG-17.

Docket # RP00-287, 001, Great Lakes Gas Transmission Limited Partnership and Ocean Energy Resources, Inc.

CAG-18.

Docket # RP00-223, 002, Northern Natural Gas Company

Other #s RP00-223, 000, Northern Natural Gas Company

RP00-223, 001, Northern Natural Gas Company

CAG-19.

Docket # RP95-4090, 008, Northwest Pipeline Corporation

CAG-20.

Docket # RP96-129, 008, Trunkline Gas Company

CAG-21.

Docket # RP97-375, 011, Wyoming Interstate Company, Ltd.

Other #s RP99-381, 005, Wyoming Interstate Company, Ltd.

CAG-22.

Docket # TM00-1-22, 003, Dominion Transmission, Inc. (formerly CNG Transmission Corporation)

CAG-23.

Docket # RM96-1, 016, Standards for Business Practices of Interstate Natural Gas Pipelines

CAG-24.

Docket # RP00-275, 001, Chesapeake Panhandle Limited Partnership v. Natural Gas Pipeline Company of America, Micon Gas Products Corporation, Midcon Gas Services Corporation, KN Energy, Inc. and Kinder Morgan, Inc.

CAG-25.

Omitted

CAG-26.

Docket # MG00-9, 000, Michigan Gas Storage Company

CAG-27.

Docket # OR00-7, 000, Navajo Refining Company

Other #s OR96-2 et al., 000, Arco Products Company, a Division of Atlantic Richfield Company, et al. v. SFPP, L.P.

OR98-11, 000, SFPP, L.P.

OR00-7, 001, Navajo Refining Company

OR00-8, 000, Ultramar Diamond Shamrock Corporation and Ultramar Inv. v. SFPP, L.P.

OR00-8, 001, Ultramar Diamond Shamrock Corporation and Ultramar Inc. v. SFPP, L.P.

OR00-9, 000, Tosco Corporation v. SFPP, L.P.

OR00-9, 001, Tosco Corporation v. SFPP, L.P.

OR00-10, 000, Refinery Holding Company, L.P. v. SFPP, L.P.

OR00-10, 001, Refinery Holding Company, L.P. v. SFPP, L.P.

CAG-28.

Docket # RP00-445, 000, Alliance Pipeline, L.P.

Other #s CP97-168, 004, Alliance Pipeline, L.P.

CP97-169, 000, Alliance Pipeline, L.P.

CP97-177, 000, Alliance Pipeline, L.P.

CP97-178, 000, Alliance Pipeline, L.P.

Consent Agenda—Energy Projects—Hydro

CAH-1.

Docket # P-4244, 018, Northumberland Hydro Partners, L.P.

CAH-2.

Docket # P-2538, 047, Erie Boulevard Hydropower, LP

CAH-3.

Docket # P-4632, 020, Clifton Power Corporation

CAH-4.

Docket # P-2188, 030, PP&L Montana, LLC

Consent Agenda—Energy Projects—Certificates

CAC-1.

Omitted

CAC-2.

Docket # CP99-241, 000, ANR Pipeline Company

Other #s CP99-241, 001, ANR Pipeline Company

CAC-3.

Docket # CP00-165, 000, Transcontinental Gas Pipe Line Corporation

CAC-4.

Docket # CP00-91, 000, National Fuel Gas Supply Corporation

Other #s CP00-91, 001, National Fuel Gas Supply Corporation

CAC-5.

Docket # CP00-137, 000, Reliant Energy Gas Transmission Company

CAC-6.

Docket # CP00-446, 000, Montana Power Company

CAC-7.

Omitted

CAC-8.

Docket # CP97-315, 004, Independence Pipeline Company

Other #s CP97-320, 002, Independence Pipeline Company

CP97-321, 002, Independence Pipeline Company

Energy Projects—Hydro Agenda

H-1.

Reserved

Energy Projects—Certificates Agenda

C-1.

Reserved

Markets, Tariffs and Rates—Electric Agenda

E-1.

Omitted

Markets, Tariffs and Rates—Gas Agenda

G-1.

Reserved

David P. Boergers,
Secretary.

[FR Doc. 00-24635 Filed 9-21-00; 11:38 am]

BILLING CODE 6717-01-P